DEPARTMENT OF ENERGY

Federal Energy Regulatory Commission

[Docket No. ER00-38-003, et al.]

Broad River Energy LLC, et al.; Electric Rate and Corporate Filings

January 27, 2003.

The following filings have been made with the Commission. The filings are listed in ascending order within each docket classification.

1. Broad River Energy LLC

[Docket No. ER00-38-003]

Take notice that on January 22, 2003, Broad River Energy LLC submitted for filing its triennial market analysis update.

Comment Date: February 12, 2003.

2. Lyon Rural Electric Cooperative

[Docket No. ER02-2001-000]

Take notice that on December 16, 2002, Lyon Rural Electric Cooperative (Lyon) filed a request for waiver of the requirements of Order No. 2001 pursuant to 18 CFR 385.207 of the Federal Energy Regulatory Commission's Regulations. Lyon's filing is available for public inspection at its offices in Rock Rapids, Iowa.

Comment Date: February 18, 2003.

3. NM Colton Genco LLC, NM Mid-Valley Genco LLC, and NM Milliken Genco LLC

[Docket Nos. ER03-320-001, ER03-321-001, and ER03-322-001]

Take notice that on January 23, 2003, NM Colton Genco LLC (NM Colton), NM Mid-Valley Genco LLC (NM Mid-Valley) and NM Milliken Genco LLC (NM Milliken) (collectively, Applicants), tendered for filing with the Federal Energy Regulatory Commission, an amendment to the Application of NM Colton Genco LLC, NM Mid-Valley Genco LLC, and NM Milliken Genco LLC for Order Approving Market Based Rates filed with the Commission on December 23, 2002.

Comment Date: February 13, 2003.

4. Elk Hills Power, LLC

[Docket No. ER03-394-001]

Take notice that on January 22, 2003, Elk Hills Power, LLC (Elk Hills) tendered for filing amendments to its petition for waivers and blanket approvals under various regulations of the Federal Energy Regulatory Commission and for an order accepting its FERC Electric Tariff No. 1, originally filed on January 9, 2003.

Comment Date: February 12, 2003.

5. Avista Corporation

[Docket No. ER03-435-000]

Take notice that on January 22, 2003, Avista Corporation (Avista) tendered for filing with the Federal Energy Regulatory Commission (Commission), pursuant to part 35 of the Commission's Rules and Regulations, 18 CFR part 35, Original Service Agreement No. 297, which is an Agreement for Purchase and Sale of Power between Avista and Public Utility District No. 1 of Douglas County, Washington.

Avista requests an effective date of January 1, 2003.

Avista states that copies of the filing were served upon Douglas, the sole party to the Service Agreement.

Comment Date: February 12, 2003.

6. Southern California Edison Company

[Docket No. ER03-436-000]

Take notice that on January 22, 2003, Southern California Edison Company (SCE) tendered for filing revisions to the Agreement For Interconnection Service and the Interconnection Facilities Agreement between SCE and Harbor Cogeneration Company (Harbor), Service Agreement Nos. 2 and 9 under SCE's FERC Electric Tariff, First Revised Volume No. 6.

The revisions to these agreements reflect an extension of their terms and conditions to provide interconnection service to Harbor's 110 MW generating facility through April 30, 2003.

SCE states that copies of this filing were served upon the Public Utilities Commission of the State of California and Harbor.

Comment Date: February 12, 2003.

7. Puget Sound Energy, Inc.

[Docket No. ER03-437-000]

Take notice that on January 22, 2003, Puget Sound Energy, Inc. (Puget) tendered for filing: (i) A change in Puget Rate Schedule FERC No. 86 between the Department of Energy acting by and through the Bonneville Power Administration (Bonneville) and Puget, effective October 1, 2001 (the Revision); and (ii) the Settlement Exchange Agreement between Puget and Bonneville, executed September 17, 1985, as amended.

Puget states that a copy of the filing was served upon Bonneville. Puget also states that the Revision is to Exhibit E to the Settlement Exchange Agreement between Puget and Bonneville. Exhibit E relates to transmission service and charges by Bonneville for deliveries by Bonneville under the Settlement Exchange Agreement.

Comment Date: February 12, 2003.

8. ManChief Power Company, L.L.C.

[Docket No. ER03-438-000]

Take notice that on January 22, 2003, ManChief Power Company, L.L.C. (ManChief Power) tendered for filing pursuant Section 205 of the Federal Power Act proposed revisions to its FERC Electric Tariff, Original Volume No. 1 (Tariff).

ManChief Power requests that the Tariff be modified to provide for sales of electric energy and capacity by ManChief Power on a stand-alone basis. The Tariff currently is shared by ManChief Power with Fulton Cogeneration Associates, L.P. (Fulton) with whom ManChief Power previously was, but is no longer, affiliated.

ManChief Power requests an effective date of November 4, 2002 .

Comment Date: February 12, 2003.

9. Fulton Cogeneration Associates, L.P.

[Docket No. ER03-439-000]

Take notice that on January 22, 2003, Fulton Cogeneration Associates, L.P. (Fulton), tendered for filing pursuant Section 205 of the Federal Power Act proposed revisions to its FERC Electric Tariff, Original Volume No. 1 (Tariff).

Fulton requests that the Tariff be modified to provide for sales of electric energy and capacity by Fulton on a stand-alone basis. The Tariff is currently shared by Fulton and ManChief Power Company, L.L.C. (ManChief).

Fulton requests an effective date of November 4, 2002, the date that member interests in ManChief were transferred to an unaffiliated entity.

Comment Date: February 12, 2003.

10. California Independent System Operator Corporation

[Docket No. ER03-440-000]

Take notice that on January 22, 2003, the California Independent System Operator Corporation (ISO) tendered for filing a notice concerning the termination of the Scheduling Coordinator Agreement (SCA) between the ISO and the Department of Water and Power of the City of Los Angeles (LADWP). The ISO requests that the SCA be terminated effective May 21, 2003.

The ISO states that copies of this filing have been served upon all parties in Docket No. ER99-2241-000.

Comment Date: February 12, 2003.

11. Progress Energy Inc. on behalf of Progress Energy Carolinas, Inc.

[Docket No. ER03-441-000]

Take notice that on January 23, 2003, Progress Energy Carolinas (Progress Carolinas) filed a Service Agreement with Virginia Electric Power Company under Progress Carolinas' market-based rates Tariff, FERC Electric Tariff, First Revised, Volume No. 5.

Progress Carolinas is requesting an effective date of January 1, 2003 for this Agreement. Progress states that copies of the filing were served upon the North Carolina Utilities Commission and the South Carolina Public Service Commission.

Comment Date: February 13, 2003.

12. Progress Energy, Inc. on behalf of Progress Energy Carolinas, Inc.

[Docket No. ER03-442-000]

Take notice that on January 23, 2003, Progress Energy Carolinas, Inc. (Progress Carolinas) tendered for filing an executed long-term Service Agreement between Progress Carolinas and the following eligible buyer, The Town of Winterville, NC. Service to this eligible buyer will be in accordance with the terms and conditions of Progress Carolinas Market-Based Rates Tariff, FERC Electric Tariff No. 5.

Progress Carolinas requests an effective date of March 1, 2003 for this Service Agreement. Progress also states that copies of the filing were served upon the North Carolina Utilities Commission and the South Carolina Public Service Commission.

Comment Date: February 13, 2003.

13. Public Service Company of New Mexico

[Docket No. ER03-443-000]

Take notice that on January 23, 2003, Public Service Company of New Mexico (PNM) submitted for filing an executed service agreement, dated January 1, 2003, for firm point-to-point transmission service and ancillary services, between PNM Transmission Development and Contracts (Transmission Provider) and PNM International Business Development (Transmission Customer), under the terms of PNM's Open Access Transmission Tariff. The agreement is for 27 MW of reserved transmission capacity (and certain ancillary services) from the San Juan Generating Station 345kV Switchyard to the Luna 345kV Switching Station and represents the Transmission Customer's exercise of its Right of First Refusal to extend service under a predecessor (now expired) agreement for one year (through calendar year 2003). PNM requests January 1, 2003, as the effective date for each agreement. PNM's filing is available for public inspection at its offices in Albuquerque, New Mexico.

PNM states that copies of the filing have been sent to PNM International Business Development, PNM Transmission Development and Contracts, the New Mexico Public Regulation Commission and the New Mexico Attorney General.

Comment Date: February 13, 2003.

14. Public Service Company of New Mexico

[Docket No. ER03-444-000]

Take notice that on January 23, 2003, Public Service Company of New Mexico (PNM) submitted for filing two executed service agreements for firm point-to-point transmission service with Texas-New Mexico Power Company (TNMP), under the terms of PNM's Open Access Transmission Tariff. The agreements are for 5 MW and 15 MW (respectively) of reserved transmission capacity from the Four Corners 345kV Switchyard to the Hidalgo 345kV Switching Station during calendar year 2003. PNM requests January 1, 2003, as the effective date for each agreement. PNM's filing is available for public inspection at its offices in Albuquerque, New Mexico.

PNM states that copies of the filing have been sent to TNMP, the New Mexico Public Regulation Commission and the New Mexico Attorney General.

Comment Date: February 13, 2003.

15. Midwest Independent Transmission System Operator, Inc.

[Docket No. ER03-445-000]

Take notice that on January 23, 2003, pursuant to Section 205 of the Federal Power Act and Section 35.12 of the Commission's regulations, 18 CFR 35.12 the Midwest Independent Transmission System Operator, Inc. (Midwest ISO) submitted for filing an Interconnection and Operating Agreement among Dakota I Power Partners, the Midwest ISO and Montana-Dakota Utilities Co., a Division of MDU Resources Group, Inc.

Midwest ISO states a copy of this filing was sent to the Dakota I Power Partners and Montana-Dakota Utilities Co.

Comment Date: February 13, 2003.

16. Calpine Philadelphia, Inc.

[Docket No. ER03-446-000]

Take notice that on January 23, 2003, Calpine Philadelphia, Inc., (CPI), filed a Notice of Succession to adopt O'Brien (Philadelphia) Cogeneration, Inc.”s market-based rate authorizations.

Comment Date: February 13, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-2267 Filed 1-30-03; 8:45 am]

BILLING CODE 6717-01-P